DEPARTMENT OF JUSTICE

Antitrust Division

Notice Pursuant to the National Cooperative Research and Production Act of 1993—Naval Surface Technology & Innovation Consortium

Notice is hereby given that, on October 11, 2023, pursuant to section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances.

Specifically, Altus Technical Solutions LLC, Hanover, MD; Astro Machine Holdings dba Astro Machine Works, Ephrata, PA; Azure Summit Technology, Inc., Fairfax, VA; Breault Research Organization, Inc., Tucson, AZ; C3I, Exeter, NH; Core4ce LLC, Reston, VA; DRS Training & Control Systems LLC, Fort Walton Beach, FL; Elevan LLC dba Elevate Systems, San Antonia, TX; Flexible Concepts, Inc., Elkhart, IN; FN America LLC, Columbia, SC; Goldbelt Hawk LLC, Newport News, VA; Luna Labs USA LLC, Charlottesville, VA; MetalTek International, Inc., Waukesha, WI; Michael Fry Defense LLC, Dutton, VA; Mistral, Inc., Bethesda, MD; Oceanit Laboratories, Inc., Honolulu, HI; Optowares, Inc., Woburn, MA; OToole Tek LLC, Rocky Hill, CT; Purdue Applied Research Institute LLC, West Lafayette, IN; Smart Shooter, Inc., Herndon, VA; Titan Diversified Holdings, Inc., Charlotte, NC; and TMGcore, Inc., Plano, TX, have been added as parties to this venture.

No other changes have been made in either the membership or planned activity of the group research project. Membership in this group research project remains open, and NSTIC intends to file additional written notifications disclosing all changes in membership.

On October 8, 2019, NSTIC filed its original notification pursuant to section 6(a) of the Act. The Department of Justice published a notice in the Federal Register pursuant to section 6(b) of the Act on November 12, 2019 (84 FR 61071).

The last notification was filed with the Department on July 7, 2023. A notice was published in the Federal Register pursuant to section 6(b) of the Act on September 26, 2023 (88 FR 66060).

Suzanne Morris,
Deputy Director Civil Enforcement Operations, Antitrust Division.

[FR Doc. 2023-27605 Filed 12-14-23; 8:45 am]

BILLING CODE P